DEPARTMENT OF DEFENSE

Department of the Army, Corps of Engineers

33 CFR Part 325

[Docket ID: COE-2025-0006]

RIN 0710-AB20

Procedures for Implementing NEPA; Processing of Department of the Army Permits

AGENCY: Army Corps of Engineers, Department of Defense (DoD).

ACTION: Correcting amendment.

SUMMARY: The Army is issuing this document to correct the interim final rule published on July 3, 2025. That document inadvertently provided inaccurate instruction with regard to paragraph (a) of § 325.2. This document corrects the interim final rule.

DATES: Effective on July 15, 2025.

FOR FURTHER INFORMATION CONTACT: Mr. Milt Boyd, telephone: 703-459-6026, Email: CEHQ-NEPA@usace.army.mil. Include the docket number, COE-2025-0006, in the subject line of the message.

SUPPLEMENTARY INFORMATION: On July 3, 2025, the Army published an interim final rule that removed the U.S. Army Corps of Engineers (Corps) National Environmental Policy Act (NEPA) implementing regulations, used for evaluating permit applications, which were promulgated to supplement now-rescinded Council on Environmental Quality (CEQ) regulations, and replaced them with a new regulation that also addresses requests for permission under Section 14 of the Rivers and Harbors Act of 1899. Further, the Army also made conforming changes to its regulations to eliminate references to Appendix B and other NEPA implementation regulations. In addition, this interim final rule requested comments on this action and related matters to inform Army's decision making by August 4, 2025, and stated that the Army may make further revisions to its NEPA implementing procedures if the Army's review of any comments submitted suggests that further revisions are warranted.

Shortly after publication, the Office of the Federal Register indicated that inaccurate instruction was provided in the interim final rule with regard to paragraph (a) of § 325.2. This document serves to correct the interim final rule.

List of Subjects in 33 CFR Part 325

Administrative practice and procedure, Dams, Environmental protection, Intergovernmental relations, Navigation, Water pollution control, Waterways.

Accordingly, 33 CFR part 325 is corrected by making the following correcting amendment:

PART 325—PROCESSING OF DEPARTMENT OF THE ARMY PERMITS

1. The authority citation for part 325 continues to read as follows:

Authority: 5 U.S.C. 301; 33 U.S.C. 401 et seq.: 33 U.S.C. 1344; 33 U.S.C. 1413.

2. Amend § 325.2 by revising paragraph (a)(4) to read as follows:

§ 325.2 Processing of applications.

* * * * *

(a) * * *

(4) The district engineer will follow 33 CFR part 333 for environmental procedures and documentation required by the National Environmental Policy Act of 1969, as amended. A decision on a permit application will require either an environmental assessment or an environmental impact statement unless it is included within a categorical exclusion.

* * * * *

Approved by:
D. Lee Forsgren,
Acting Assistant Secretary of the Army (Civil Works).

[FR Doc. 2025-13251 Filed 7-14-25; 8:45 am]

BILLING CODE 3720-58-P